DEPARTMENT OF TRANSPORTATION

Federal Aviation Administration

Draft Advisory Circulars (ACs), Other Policy Documents, and Proposed Technical Standard Orders (TSOs)

AGENCY: Federal Aviation Administration (FAA), DOT.

ACTION: Notice of Availability of draft advisory circulars (ACs), other policy documents, and proposed technical standard orders (TSOs).

SUMMARY: This notice announces that the Aircraft Certification Service of the FAA maintains the “Aircraft Certification Draft Documents Open for Comment” Web site on the Internet at http://www.faa.gov/aircraft/draft_docs/ The Aircraft Certification Service will make available on this web site draft ACs, other policy documents, and proposed TSOs open for comment. The Aircraft Certification Service, FAA will no longer publish an individual Federal Register Notice for each draft AC, other policy documents, or proposed TSO that we make available for public comment. There is no requirement to publish these documents or notices in the Federal Register. Comments on the documents published on the website must be received on or before the due date specified on the web site for each document. The FAA will publish in the Federal Register a recurring generic Notice of Availability and Request for Comments announcement reminding the public to check the “Aircraft Certification Draft Documents Open for Comments” Web site on the Internet at http://www.faa.gov/aircraft/draft_docs/.

DATES: This notice becomes effective the date of publication in the Federal Register.

ADDRESSES: Send comments on draft ACs, other policy documents, and proposed TSOs electronically or in hard copy to the Federal Aviation Administration at the address specified on the web site to the attention of the individual and office identified as point of contact for the document.

FOR FURTHER INFORMATION CONTACT: Roberta Katson, production and Airworthiness Division, Aircraft Certification Service, AIR-200, Room 815, Federal Aviation Administration, 800 Independence Avenue, SW., Washington, DC 20591. Telephone (202) 493-4633, Fax (202) 267-5580.

SUPPLEMENTARY INFORMATION: You are invited to comment on the documents provided on the website. Comments on draft ACs, other policy documents and proposed TSOs should identify the document by its number. The Director, Aircraft Certification Service, will consider all comments received on or before the closing date before issuing a final document. You can obtain a paper copy of the draft document by contacting the FAA individual or office responsible for the document. You will find the “Aircraft Certification Draft Documents Open for Comment” site at http://www.faa.gov/aircraft/draft_docs/. For Internet retrieval assistance, contact the AIR Internet Content Program manager at 202-267-8361.

Issued in Washington, DC on January 13, 2006.
Terry Allen,
Acting Manager, Production and Airworthiness Division, Aircraft Certification Service.

[FR Doc. 06-597 Filed 1-23-06; 8:45 am]

BILLING CODE 4910-13-M